DEPARTMENT OF STATE

[Public Notice 3337]

Bureau for International Narcotics and Law Enforcement Affairs; International Demand Reduction Program (IDR)

AGENCY: Office of Europe, NIS, and Training; Bureau for International Narcotics and Law Enforcement Affairs, State.

ACTION: Notice.

SUMMARY: State Department's Bureau for International Narcotics and Law Enforcement Affairs (INL) developed the International Demand Reduction program (IDR) in 1978 to assist foreign countries to mobilize public and private sectors in effective support of national narcotic control policies and programs. The program was enhanced in 1990 to assist foreign countries with the development of self-sustaining prevention, education, and treatment programs. The goal of the program is to enhance foreign political determination to combat illegal drug abuse and convince governments to dedicate sufficient resources to effectively fight this problem.

The IDR program has been modified to include the participation of non-Federal agencies (e.g., universities, nonprofit organizations) in the development of national, regional, and international networks of public/private sector organizations to strengthen international cooperation and actions against the drug trade. This component of the IDR program has a timeframe of 2000-2003.

DATES: Strict deadlines for submission to the FY 2000 process are: A full proposal must be received at INL no later than Friday, July 28. Letters of intent will not be required. We anticipate that review of full proposals will occur during August 2000 and funding should begin during September of 2000 for most approved projects. September 25, 2000 should be used as the proposed start date on proposals, unless otherwise directed by a program manager. Applicants should be notified of their status within 6 months of submission deadline. All proposals must be submitted in accordance with guidelines below. Failure to heed these guidelines may result in proposals being returned without review.

ADDRESSES: Proposals may be submitted to: U.S. Department of State, Bureau of International Narcotics and Law Enforcement Affairs, Navy Hill South, 2430 E Street NW., Washington, DC 20520, Attn: Linda Gower.

FOR FURTHER INFORMATION CONTACT: Linda Gower at above address, TEL: 202-776-8774, FAX: 202-776-8775, or Thom Browne at above address, TEL: 202-736-4662, FAX: 202-647-6962.

Once the RFA deadline has passed, DOS staff may not discuss competition in any way with applicants until the proposal review process has been completed.

SUPPLEMENTARY INFORMATION:

Funding Availability

This Program Announcement is for one project to be conducted by agencies/programs outside the Federal government, over a period of up to three years. Actual funding levels will depend upon availability of funds. Current plans are for up to a total of $1,600,000 per year for one-three years to be available for one new IDR award. The funding instrument for this award will be a grant or a cooperative agreement. Funding for non-U.S. institutions and contractual arrangements for services and products for delivery to INL are not available under this announcement. Matching share, though encouraged, is not required by this program.

Program Authority

Authority: Section 635(b) of the Foreign Assistance Act of 1961, as amended.

Program Objectives

The goal of the IDR program is to enhance foreign political determination to combat illegal drug abuse and convince governments to dedicate sufficient resources to effectively fight this problem.

The program objectives of the IDR program are: (1) Strengthen the ability of host nations to conduct more effective demand reduction efforts on their own; (2) encourage drug producing and transit countries to invest resources in drug awareness, demand reduction, and training to build public support and political will for implementing counternarcotics programs; (3) improve coordination of, and cooperation in, international drug awareness and demand reduction issues involving the U.S., donor countries and international organizations; and (4) utilize accomplishments in the international program to benefit U.S. demand reduction services at home.

Program Priorities

The FY 2000 IDR Program Announcement invites international demand reduction coalition development proposals for the following priority:

(1) Development of a Western Hemisphere (Canada, United States, Mexico, Caribbean, Central and South America) coalition of public/private sector demand reduction organizations.

For the purpose of this announcement, the development of a Western Hemisphere demand reduction coalition should include the establishment of a U.S.-based secretariat (site proposed by applicant), a regional office in Latin America (site proposed by applicant), an internet/web site system to link coalition members, a Board of Directors meeting to develop the organization's constitution and by-laws, three regional-level meetings per year in countries throughout the hemisphere (locations identified by applicant and INL after grant award), one national-level meeting per year in each participating country (estimated at 20 participating countries), the establishment of a model community-based prevention program in Latin America for network participants to emulate, and a drug prevention technical assistance component for member organizations that includes consultations on establishing national-level coalitions of drug prevention programs, developing media-based anti-drug messages, and maintaining drug-free communities.

Any grant applicants who will be working with counterpart demand reduction programs to develop the proposed coalitions and model program may sub-grant or sub-contract services to assist in fulfilling program objectives.

Eligibility

Eligibility is limited to non-Federal agencies and organizations. Applicants are urged to seek collaboration with counterpart demand reduction programs either in the U.S. or overseas. Experience of project staff in developing demand reduction coalitions in international settings is mandatory. Universities and non-profit organizations are included among entities eligible for funding under this announcement. Direct funding for non-U.S. institutions is not available under this announcement.

Evaluation Criteria

Consideration for financial assistance will be given to those proposals which address Program Priorities identified above and meet the following evaluation criteria:

(1) Relevance (15%): Importance and relevance to the goal and objectives of the IDR program identified above.

(2) Methodology (20%): Adequacy of the proposed approach and activities, including development of appropriate procedures for establishing demand reduction coalitions in international settings; development of adequate communications strategies between demand reduction programs and coalitions; planning and organizing international meetings; project milestones, and final products.

(3) Readiness (25%): Relevant history and experience in developing and/or supporting international demand reduction coalitions and meetings, in addition to previous experience in providing technical assistance in the area of international drug prevention, strength of proposed project team, past performance record of applicants.

(4) Linkages (25%): Connections to existing demand reduction organizations/programs and coalitions throughout the western hemisphere.

(5) Costs (15%): Adequacy/efficiency of the proposed resources; appropriate share of total available resources; applicants offering cost sharing will receive points.

Selection Procedures

All proposals will be evaluated and ranked in accordance with the assigned weights of the above evaluation criteria by independent peer panel review composed of INL and other Federal USG agency experts. The panel's recommendations and evaluations will be considered by the program managers in final selections. Those ranked by the panel and program managers as not recommended for funding will not be given further consideration and will be notified of non-selection. For the proposals rated for possible funding, the program managers will: (a) Ascertain which proposals meet the objectives and fit the criteria posted; (b) select the proposal to be funded; (c) determine the total duration of funding for the proposal; and (d) determine the amount of funds available for the proposal.

Unsatisfactory performance by a recipient under prior

Federal awards may result in an application not being considered for funding.

Proposal Submission

The guidelines for proposal preparation provided below are mandatory. Failure to heed these guidelines may result in proposals being returned without review.

(a) Full Proposals

(1) Proposals submitted to INL must include the original and three unbound copies of the proposal. (2) Program descriptions must be limited to 20 pages (numbered), not including budget, personal vitae, letters of support and all appendices, and should be limited to funding requests for one to three years duration. Federally mandated forms are not included within the page count. (3) Proposals should be sent to INL at the above address. (4) Facsimile transmissions of full proposals will not be accepted

(b) Required Elements

(1) Signed title page: The title page should be signed by the Project Director (PD) and the institutional representative and should clearly indicate which project area is being addressed. The PD and institutional representative should be identified by full name, title, organization, telephone number and address. The total amount of Federal funds being requested should be listed for each budget period.

(2) Abstract: An abstract must be included and should contain an introduction of the problem, rationale and a brief summary of work to be completed. The abstract should appear as a separate page, headed with the proposal title, institution(s) name, investigator(s), total proposed cost and budget period.

(3) Prior demand reduction coalition building and drug prevention technical assistance experience: A summary of prior demand reduction coalition building and drug prevention technical assistance experience (especially those conducted in foreign countries) should be described, including coalition building and technical assistance activities related to program priorities identified above. Reference to each prior coalition building/technical assistance award should include the title, agency, award number, period of award and total award. The section should be a brief summary and should not exceed two pages total.

(4) Statement of work: The proposed project must be completely described, including identification of the problem, project objectives, proposed coalition building/technical assistance methodology, relevance to the goal and objectives of the IDR program, and the program priorities listed above. A year-by-year summary of proposed work must be included clearly indicating that each year's proposed work is severable and can easily be separated into annual increments of meaningful work. The statement of work, including figures and other visual materials, must not exceed 20 pages of length.

(5) Budget: Applicants must submit a Standard form 424 (4-92) “Application for Federal Assistance,” including a detailed budget using the Standard Form 424a (4-92), “Budget Information—Non-Construction Programs.” The proposal must include total and annual budgets corresponding with the descriptions provided in the statement of work.

Additional text to justify expenses should be included (i.e., salaries and benefits by each proposed staff person; direct costs such as travel (airfare, per diem, miscellaneous travel Indicate if indirect rates are DCAA or other Federal agency approved or proposed rates and provide a copy of the current rate agreement. In addition, furnish the same level of information regarding sub-grantee costs, if applicable, and submit a copy of your most recent A-110 audit report.

(6) Vitae: Abbreviated curriculum vitae are sought with each proposal. Vitae for each project staff person should not exceed three pages in length.

(c) Other Requirements

Primary Applicant Certification: All primary applicants must submit a completed Form CD-511, “Certification Regarding Debarment, Suspension and Other Responsibility Matters; Drug-Free Workplace Requirements and Lobbying.” Applicants are also hereby notified of the following:

1. Non procurement Debarment and Suspension: Prospective participants (as defined at 15 CFR part 26, section 105) are subject to 15 CFR part 26, “Non-procurement Debarment and Suspension,” and the related section of the certification form prescribed above applies;

2. Drug Free Workplace: Grantees (as defined at 15 CFR part 26, section 605) are subject to 15 CFR Part 26, Subpart F, “Government wide Requirements for Drug-Free Workplace (Grants)” and the related section of the certification form prescribed above applies;

3. Anti-Lobbying: Persons (as defined at 15 CFR Part 28, section 105) are subject to the lobbying provisions of 31 U.S.C. 1352, “Limitation on use of appropriated funds to influence certain Federal contracting and financial transactions,” and the lobbying section of the certification form prescribed above applies to applications/bids for grants of more than $100,000; and

4. Anti-Lobbying Disclosures: Any applicant that has paid or will pay for lobbying using any funds must submit SF-LLL, “Disclosure of Lobbying Activities,” as required under 15 CFR part 28, appendix B.

Lower Tier Certifications

(1) Recipients must require applicants/bidders for sub-grants or lower tier covered transactions at any tier under the award to submit, if applicable, a completed Form CD-512, “Certifications Regarding Debarment, Suspension, Ineligibility and Voluntary Exclusion—Lower Tier Covered Transactions and Lobbying” and disclosure Form SF-LLL, “Disclosure of Lobbying Activities.” Form CD-512 is intended for the use of recipients and should not be transmitted to Department of State (DOS). SF-LLL submitted by any tier recipient or sub-recipient should be submitted to DOS in accordance with the instructions contained in the award document.

(2) Recipients and sub-recipients are subject to all applicable Federal laws and Federal and Department of State policies, regulations, and procedures applicable to Federal financial assistance awards.

(3) Pre-award Activities—If applicants incur any costs prior to an award being made, they do so solely at their own risk of not being reimbursed by the Government. Notwithstanding any verbal assurance that may have been received, there is no obligation to the applicant on the part of Department of State to cover pre-award costs.

(4) This program is subject to the requirements of OMB Circular No. A-110, “Uniform Administrative Requirements for Grants and Other Agreements with Institutions of Higher Education, Hospitals, and Other Non-Profit Organizations,” OMB Circular No. A-133, “Audits of Institutions of Higher Education and Other Non-Profit Institutions,” and 15 CFR Part 24, “Uniform Administrative Requirements for Grants and Cooperative Agreements to State and Local Governments,” as applicable. Applications under this program are not subject to Executive Order 12372, “Intergovernmental Review of Federal Programs.”

(5) All non-profit applicants are subject to a name check review process. Name checks are intended to reveal if any key individuals associate with the applicant have been convicted of, or are presently facing criminal charges such as fraud, theft, perjury, or other matters which significantly reflect on the applicant's management, honesty, or financial integrity.

(6) A false statement on an application is grounds for denial or termination of funds and grounds for possible punishment by a fine or imprisonment as provided in 18 U.S.C. 1001.

(7) No award of Federal funds shall be made to an applicant who has an outstanding delinquent Federal debt until either:

(i) The delinquent account is paid in full,

(ii) a negotiated repayment schedule is established and at least one payment is received, or

(iii) Other arrangements satisfactory to the Department of State are made.

(8) Buy American-Made Equipment or Products—Applicants are encouraged that any equipment or products authorized to be purchased with funding provided under this program must be American-made to the maximum extent feasible.

(9) The total dollar amount of the indirect costs proposed in an application under this program must not exceed the indirect cost rate negotiated and approved by a cognizant Federal agency prior to the proposed effective date of the award or 100 percent of the total proposed direct cost dollar amount in the application, whichever is less.

(d) If an application is selected for funding, the Department of State has no obligation to provide any additional future funding in connection with the award. Renewal of an award to increase funding or extend the period of performance is at the total discretion of the Department of State.

(e) In accordance with Federal statutes and regulations, no person on grounds of race, color, age, sex, national origin or disability shall be excluded from participation in, denied benefits of or be subjected to discrimination under any program or activity receiving assistance from the INL IDR program. Notwithstanding any other provision of law, no person is required to respond to nor shall a person be subject to a penalty for failure to comply with a collection of information subject to the requirements of the Paperwork Reduction Act unless that collection of information displays a current valid OMB control number. The standard forms have been approved by the Office of Management and Budget pursuant to the Paperwork Reduction Act under OMB approval number 0348-0043, 0348-0044, and 0348-0046.

Classification: This notice has been determined to be not significant for purposes of Executive Order 12866.

Dated: June 12, 2000.
Thomas M. Browne Jr.,
Deputy Director, Office of Europe, NIS, and Training, Bureau for International Narcotics and Law Enforcement Affairs, Department of State.

[FR Doc. 00-15370 Filed 6-16-00; 8:45 am]

BILLING CODE 4710-17-U